DEPARTMENT OF VETERANS AFFAIRS

[OMB Control No. 2900-0736]

Agency Information Collection (Authorization To Disclose Personal Beneficiary/Claimant Information to a Third Party) Activity under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before January 21, 2010.

ADDRESSES: Submit written comments on the collection of information through http://www.Regulations.gov or to VA's OMB Desk Officer, OMB Human Resources and Housing Branch, New Executive Office Building, Room 10235, Washington, DC 20503, (202) 395-7316. Please refer to “OMB Control No. 2900-0736” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@mail.va.gov. Please refer to “OMB Control No. 2900-0736.”

SUPPLEMENTARY INFORMATION: Title: Authorization to Disclose Personal Beneficiary/Claimant Information to a Third Party, VA Form 21-0845.

OMB Control Number: 2900-0736.

Type of Review: Extension of a currently approved collection.

Abstract: VA Form 21-0845 is completed by severely injured service members or beneficiary who are unable to communicate with VA due to their injuries, to authorize release of certain claims information to an agent or person(s) whom they designate. The form will aid family member(s) in making well-informed decisions regarding a seriously ill or injured claimant or beneficiary and also allow the designee to receive updated information on certain decisions made regarding claims and payments.

An agency may not conduct or sponsor, and a person is not required to respond to a collection of information unless it displays a currently valid OMB control number. The Federal Register Notice with a 60-day comment period soliciting comments on this collection of information was published on October 14, 2009, at pages 52842-52843.

Affected Public: Individuals or households.

Estimated Annual Burden: 1,667 hours.

Estimated Average Burden Per Respondent: 5 minutes.

Frequency of Response: On occasion.

Estimated Number of Respondents: 20,000.

Dated: December 17, 2009.
By direction of the Secretary:
Denise McLamb,
Program Analyst, Enterprise Records Service.

[FR Doc. E9-30367 Filed 12-21-09; 8:45 am]

BILLING CODE 8320-01-P